NATIONAL SCIENCE FOUNDATION

Special Emphasis Panel in Design, Manufacture and industrial Innovation; Notice of Meeting

In accordance with the Federal Advisory Committee Act (Pub. L. 92-463, as amended), the National Science Foundation announces the following meeting:

Name: Special Emphasis Panel in Design, Manufacture, and Industrial Innovation (1194).

Date/Time: August 31, 2000, 8 am-5:30 pm.

Place: Room 330 and 365, National Science Foundation, 4201 Wilson Blvd., Arlington, VA.

Type of Meeting: Closed.

Contact Person: Dr. George Hazelrigg, Program Director, Design and Integration Engineering, National Science Foundation, 4201 Wilson Boulevard, Room 508, Arlington, VA 2230. Telephone: (703) 306-1330.

Purpose of Meeting: To provide advice and recommendations concerning proposals submitted to the National Science Foundation for financial support.

Agenda: To review and evaluate “NSF/SANDIA” proposals as part of the selection process for awards.

Reason for Closing: The proposals being reviewed include information of proprietary or confidential nature, including technical information; financial data, such as salaries; and personal information concerning individuals associated with the proposals. These matters that are exempt under 5 U.S.C. 522b(c), (4) and (6) of the Government in the Sunshine Act.

Dated: June 28, 2000.
Karen J. York,
Committee Management Officer.

[FR Doc. 00-16789 Filed 6-30-00; 8:45 am]

BILLING CODE 7555-01-M